DEPARTMENT OF THE INTERIOR

Bureau of Land Management

[AK-930-5420-EU-L029; AA-85442]

Notice of Application for Recordable Disclaimer of Interest for Lands Underlying Chilkoot River and Chilkoot Lake in Alaska

AGENCY: Bureau of Land Management, Interior.

ACTION: Notice.

SUMMARY: The State of Alaska has filed an application for a recordable disclaimer of interest from the United States in certain lands underlying the Chilkoot River and Chilkoot Lake.

DATES: Comments on the State of Alaska's application will be accepted until October 4, 2005. Interested parties may submit comments on the BLM Draft Navigability Report on or before September 6, 2005.

ADDRESSES: Send comments to the Chief, Branch of Lands and Realty, BLM Alaska State Office, 222 West 7th Avenue, #13, Anchorage, Alaska 99513-7599.

FOR FURTHER INFORMATION CONTACT: Jack Frost at (907) 271-5531, or the Public Information Center, (907) 271-5960, Alaska State Office, 222 West 7th Avenue, #13, Anchorage, Alaska 99513-7599, for copies of the draft report, or you may visit the BLM recordable disclaimer of interest Web site at http://www.ak.blm.gov/.

SUPPLEMENTARY INFORMATION: On May 12, 2004, the State of Alaska filed an application for a recordable disclaimer of interest pursuant to Section 315 of the Federal Land Policy and Management Act and the regulations contained in 43 CFR subpart 1864 for lands underlying Chilkoot River and Chilkoot Lake (AA-85442). A recordable disclaimer of interest, if issued, will confirm the United States has no valid interest in the subject lands. The notice is intended to notify the public of the pending application and the State's grounds for supporting it. The State asserts that this river and lake is navigable; therefore, under the Equal Footing Doctrine and Submerged Lands Act of 1953, ownership of these lands underlying the river and lake automatically passed from the United States to the State of Alaska (the State) at the time of statehood in 1959. The State also asserts, in those instances where it is the upland owner, and the water body is non-navigable, the State received title to the submerged lands under state law.

The State's application (AA-85442) is for the bed of the Chilkoot River and all interconnecting sloughs between the ordinary high water lines of the left and right banks from its origin at the Ferebee Glacier terminus within Section 8, T. 27 S., R. 57 E., Copper River Meridian (CRM), Alaska, through and including Chilkoot Lake, to all points of confluence with Lutak Inlet within T. 29 S., R. 59 E., CRM. The State did not identify any known adverse claimant or occupant of the affected lands.

A final decision on the merits of the application will not be made before October 4, 2005. During the 90-day period, interested parties may comment on the State's application (AA-85442) and supporting evidence. Interested parties may comment on the evidentiary evidence presented in the BLM's Draft Navigability Report on or before September 6, 2005.

Comments, including names and street addresses of commenters, will be available for public review at the BLM's Alaska State Office (see address above), during regular business hours 8 a.m. to 3:45 p.m., Monday through Friday, except holidays. Individual respondents may request confidentiality. If you wish to hold your name or address from disclosure under the Freedom of Information Act, you must state this prominently at the beginning of your comments. Such requests will be honored to the extent allowed by law. All submissions from organizations or businesses will be made available for public inspection in their entirety.

Dated: June 3, 2005.
Carolyn Spoon,
Chief, Branch of Lands and Realty.

[FR Doc. 05-13292 Filed 7-5-05; 8:45 am]

BILLING CODE 4310-JA-P